DEPARTMENT OF COMMERCE

Foreign-Trade Zones Board

[B-16-2015]

Notification of Proposed Production Activity; Xylem Water Systems USA LLC, Subzone 37D (Centrifugal and Submersible Pumps), Auburn, New York

Xylem Water Systems USA LLC (Xylem), operator of Subzone 37D, submitted a notification of proposed production activity to the FTZ Board for its facilities located in Auburn, New York. The notification conforming to the requirements of the regulations of the FTZ Board (15 CFR 400.22) was received on March 23, 2015.

Xylem already has authority to produce centrifugal and submersible pumps and related controllers. The current request would add a finished product (pump demonstration cutaways) and certain foreign-status materials and components to the scope of authority. Pursuant to 15 CFR 400.14(b), additional FTZ authority would be limited to the specific foreign-status materials and components and specific finished products described in the submitted notification (as described below) and subsequently authorized by the FTZ Board.

Production under FTZ procedures could exempt Xylem from customs duty payments on the foreign status components used in export production. On its domestic sales, Xylem would be able to choose the duty rates during customs entry procedures that apply to centrifugal and submersible pumps (free), pump demonstration cutaways (free), and controllers (1.5%) for the foreign status components and materials noted below and in the existing scope of authority.

Customs duties also could possibly be deferred or reduced on foreign status production equipment.

The components and materials sourced from abroad include: strainer parts; shaft coupling parts; cast iron bases; non-asbestos gaskets; plastic resins; electric current filtration devices; polyester rope; pressure transducers; and, fluid sight glasses (duty rate ranges from free to 6.5%).

Public comment is invited from interested parties. Submissions shall be addressed to the FTZ Board's Executive Secretary at the address below. The closing period for their receipt is May 11, 2015.

A copy of the notification will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Pierre Duy at Pierre.Duy@trade.gov (202) 482-1378.

Dated: March 24, 2015.
Andrew McGilvray,
Executive Secretary.

[FR Doc. 2015-07381 Filed 3-30-15; 8:45 am]

BILLING CODE 3510-DS-P